EXPORT-IMPORT BANK OF THE UNITED STATES

[Public Notice 2012-0526]

Application for Final Commitment for a Long-term Loan or Financial Guarantee in Excess of $100 Million; 25 Day Comment Period

AGENCY: Export-Import Bank of the U.S.

ACTION: Notice of 25 day comment period regarding an application for final commitment for a long-term loan or financial guarantee in excess of $100 million.

Reason for Notice: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction.

Reference: AP086383XX.

Purpose and Use

Brief description of the purpose of the transaction:

To support the export of U.S. services and equipment for setting up of new gasification plant and the expansion and improvement of petrochemical manufacturing facilities in India.

Brief non-proprietary description of the anticipated use of the items being exported:

To be used for the expansion and improvement of petrochemical manufacturing facilities and setting up of new gasification plant in India.

To the extent that Ex-Im Bank is reasonably aware, the item(s) being exported may be used to produce exports or provide services in competition with the exportation of goods or provision of services by a United States industry.

Parties

Principal Supplier: Fluor Enterprises, Inc.

Obligor: Reliance Industries Limited.

Guarantor(s): N/A.

Description of Items Being Exported

Gas turbines, compressors, centrifuges, technology licenses, engineering services and related equipment.

Information on Decision: Information on the final decision for this transaction will be available in the “Summary Minutes of Meetings of Board of Directors” on http://www.exim.gov/articles.cfm/board%20minute.

Confidential Information: Please note that this notice does not include confidential or proprietary business information; information which, if disclosed, would violate the Trade Secrets Act; or information which would jeopardize jobs in the United States by supplying information that competitors could use to compete with companies in the United States.

DATES: Comments must be received on or before November 5, 2012 to be assured of consideration.

ADDRESSES: Comments may be submitted through www.regulations.gov.

Kathryn Hoff-Patrinos,
Deputy General Counsel.

[FR Doc. 2012-24981 Filed 10-10-12; 8:45 am]

BILLING CODE 6690-01-P